DEPARTMENT OF THE INTERIOR

Bureau of Land Management

[LLWYP00000-L51100000-GA0000-LVEMK09CK380; WYW172684]

Notice of Availability of the Record of Decision for the Final Environmental Impact Statement for the Buckskin Mine Hay Creek II Coal Lease Application, WY

AGENCY: Bureau of Land Management, Interior.

ACTION: Notice of availability.

SUMMARY: In accordance with the National Environmental Policy Act of 1969, the Bureau of Land Management (BLM) announces the availability of the Record of Decision (ROD) for the Hay Creek II Coal Lease-by-Application (LBA) included in the Buckskin Mine Hay Creek II Coal Lease Application Final Environmental Impact Statement (EIS).

ADDRESSES: The document is available electronically on the following Web site: http://www.blm.gov/pgdata/content/wy/en/info/NEPA/documents/hpd/HayCreekII.html. Paper copies of the ROD are also available at the following BLM office locations:

• Bureau of Land Management, Wyoming State Office, 5353 Yellowstone Road, Cheyenne, Wyoming 82009; and

• Bureau of Land Management, Wyoming High Plains District Office, 2987 Prospector Drive, Casper, Wyoming 82604.

FOR FURTHER INFORMATION CONTACT: Ms. Kathy Muller Ogle, Wyoming Coal Coordinator, at 307-775-6206, or Ms. Teresa Johnson, EIS Project Manager, at 307-261-7600. Ms. Ogle's office is located at the BLM Wyoming State Office, 5353 Yellowstone Road, Cheyenne, WY 82009. Ms. Johnson's office is located at the BLM Wyoming High Plains District Office, 2987 Prospector Drive, Casper, WY 82604. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The ROD covered by this Notice of Availability (NOA) is for the Hay Creek II coal tract and addresses leasing Federal coal about 12 miles north of Gillette, Wyoming, in Campbell County, administered by the BLM Wyoming High Plains District Office. The BLM approves Alternative 2, which is the preferred alternative of the Final EIS for the Buckskin Mine Hay Creek II Coal Lease Application. Under Alternative 2, the Hay Creek II Coal LBA area, as modified by the BLM, includes 1,253.27 acres, more or less, and contains an estimated 167 million tons of mineable Federal coal. The BLM will announce a competitive coal lease sale in the Federal Register at a later date. The Environmental Protection Agency published a Federal Register notice announcing the Final EIS was publicly available on July 29, 2011 (76 FR 45554).

This decision is subject to appeal to the Interior Board of Land Appeals (IBLA), as provided in 43 CFR part 4, within thirty (30) days from the date of publication of this NOA in the Federal Register. The ROD contains instructions for filing an appeal with the IBLA.

Mary Jo Rugwell,
Associate State Director, Wyoming.

[FR Doc. 2013-10249 Filed 4-30-13; 8:45 am]

BILLING CODE 4310-22-P